DEPARTMENT OF THE TREASURY

Office of Thrift Supervision

Submission for OMB Review; Comment Request —'34 Act Disclosures

AGENCY: Office of Thrift Supervision (OTS), Treasury.

ACTION: Notice and request for comment.

SUMMARY: The proposed information collection requirement described below has been submitted to the Office of Management and Budget (OMB) for review and approval, as required by the Paperwork Reduction Act of 1995. OTS is soliciting public comments on the proposal.

DATES: Submit written comments on or before April 12, 2007.

ADDRESSES: Send comments, referring to the collection by title of the proposal or by OMB approval number, to OMB and OTS at these addresses: Office of Information and Regulatory Affairs, Attention: Desk Officer for OTS, U.S. Office of Management and Budget, 725—17th Street, NW., Room 10235, Washington, DC 20503, or by fax to (202) 395-6974; and Information Collection Comments, Chief Counsel's Office, Office of Thrift Supervision, 1700 G Street, NW., Washington, DC 20552, by fax to (202) 906-6518, or by e-mail to infocollection.comments@ots.treas.gov. OTS will post comments and the related index on the OTS Internet Site at http://www.ots.treas.gov. In addition, interested persons may inspect comments at the Public Reading Room, 1700 G Street, NW., by appointment. To make an appointment, call (202) 906-5922, send an e-mail to public.info@ots.treas.gov, or send a facsimile transmission to (202) 906-7755.

FOR FURTHER INFORMATION CONTACT: For further information or to obtain a copy of the submission to OMB, please contact Marilyn K. Burton at marilyn.burton@ots.treas.gov, (202) 906-6467, or facsimile number (202) 906-6518, Litigation Division, Chief Counsel's Office, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

Title of Proposal: '34 Act Disclosures.

OMB Number: 1550-0019.

Form Number: Schedules 13D, 13G, 13E-3, 14A, 14C, 14D-1, and TO; SEC Forms 3, 4, 5, 10, 10-SB, 10-K, 10-KSB, 8-K, 8-A, 12b-25, 10-Q, 10-QSB, 15, G-FIN, G-FINW, G-FIN-4, G-FIN-5, and annual report.

Regulation requirement: 12 CFR part 563d and § 552.10.

Description: OTS is responsible for the securities filings for thrift institutions. These filings provide operational data to stockholders and investors that allows them to evaluate their investments and make informed decisions about the possible purchase or sale of the securities. OTS reviews these forms to ensure that the information is complete and complies with regulatory requirements, and that the thrift institution is complying with Securities and Exchange Commission (SEC) and OTS regulations.

Type of Review: Renewal.

Affected Public: Directors, officers, and principal shareholders of insured financial institutions (insiders); Savings associations.

Estimated Number of Respondents: 192.

Estimated Number of Responses: 286.

Estimated Frequency of Response: On occasion; quarterly; annually.

Estimated Total Burden: 41,030 hours.

Clearance Officer: Marilyn K. Burton, (202) 906-6467, Office of Thrift Supervision, 1700 G Street, NW., Washington, DC 20552.

OMB Reviewer: Desk Officer for OTS, Fax: (202) 395-6974, U.S. Office of Management and Budget, 725 17th Street, NW., Room 10235, Washington, DC 20503.

Dated: March 7, 2007.
Deborah Dakin,
Senior Deputy Chief Counsel, Regulations and Legislation Division.

[FR Doc. E7-4510 Filed 3-12-07; 8:45 am]

BILLING CODE 6720-01-P